INTERNATIONAL TRADE COMMISSION

Certain Pipe and Tube From Argentina, Brazil, Canada, India, Korea, Mexico, Singapore, Taiwan, Thailand, Turkey, and Venezuela ¹

¹ The products and investigation numbers for the various countries are: Argentina: light-walled rectangular tube (731-TA-409); Brazil: circular welded nonalloy steel pipe (731-TA-532); Canada: oil country tubular goods (731-TA-276); India: welded carbon steel pipe and tube (731-TA-271); Korea: circular welded nonalloy steel pipe (731-TA-533); Mexico: circular welded nonalloy steel pipe (731-TA-534); Singapore: small diameter standard and rectangular pipe and tube (731-TA-296); Taiwan: small diameter carbon steel pipe and tube (731-TA-132), oil country tubular goods (731-TA-277), light-walled rectangular tube (731-TA-410), and circular welded nonalloy steel pipe (731-TA-536); Turkey: welded carbon steel pipe and tube (701-TA-253 and 731-TA-273); Thailand: welded carbon steel pipe and tube (731-TA-252); and Venezuela: circular welded nonalloy steel pipe (731-TA-537).

AGENCY: United States International Trade Commission.

ACTION: Reopening of the record and request for comments on the subject 5-year reviews.

SUMMARY: The U.S. International Trade Commission (the Commission) hereby gives notice that it is reopening the record in these reviews for the purpose of considering new factual information, submitted by any person and not already submitted for the record, regarding the agreement between Siderca SA of Argentina and the United Steelworkers of America concerning the planned reactivation of the steel tube mill located in Sault Ste. Marie, Ontario, Canada, formerly operated by Algoma Steel Inc. of Canada, for the production of oil country tubular goods.

The Commission is not reopening the record for any purpose other than to receive new factual information from any person on this issue only and comments from any party on this new factual information. The record will reopen on June 8, 2000, and will close on June 14, 2000. On June 15, 2000, the Commission will make available to parties all information on which they have not had an opportunity to comment.

On or before June 19, 2000, parties may submit final comments, not to exceed 10 pages, double-spaced and single-sided, on stationery measuring 8½ by 11 inches, addressing only this new factual information, but such final comments must not contain any new factual information not previously submitted for the record and must otherwise comply with section 207.68 of the Commission's rules.

All written submissions must conform with the provisions of section 201.8 of the Commission's rules; any submissions that contain business proprietary information (BPI) must also conform with the requirements of sections 201.6, 207.3, and 207.7 of the Commission's rules. The Commission's rules do not authorize filing of submissions with the Secretary by facsimile or electronic means.

In accordance with sections 201.16© and 207.3 of the Commission's rules, each document filed by a party to these reviews must be served on all other parties to these reviews (as identified by either the public or BPI service list), and a certificate of service must be timely filed. The Secretary will not accept a document for filing without a certificate of service.

For further information concerning the reviews see the Commission's Rules of Practice and Procedure, part 201, subparts A through E (19 CFR part 201), and part 207, subparts A and F (19 CFR part 207).

EFFECTIVE DATE: June 8, 2000.

FOR FURTHER INFORMATION CONTACT: Brian R. Allen (202-708-4728), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

Authority: These reviews are being conducted under authority of title VII of the Tariff Act of 1930; this notice is published pursuant to section 207.21 of the Commission's rules.

By order of the Commission.
Issued: June 8, 2000.
Donna R. Koehnke,
Secretary.

[FR Doc. 00-15005 Filed 6-13-00; 8:45 am]

BILLING CODE 7020-02-P